DEPARTMENT OF JUSTICE

[AAG/A Order No. 005-2004]

Privacy Act of 1974; System of Records

Pursuant to the provisions of the Privacy Act of 1974 (5 U.S.C. 552a), notice is given that the Department of Justice proposes to modify a system of records last published on March 10, 1992, in Federal Register Volume 57, page 8475, and identified as the “General Files System of the Office of the Associate Attorney General, JUSTICE/ASG-001.” Specifically, the Office of the Associate Attorney General is modifying the system by updating the location and system manager addresses; correcting and editing the text for the CFR citation in the “Categories of Records” section; and adding a new “Purpose(s)” section. Minor revisions have been made to several routine uses. New routine uses have been added for disclosure to complainants and/or victims (routine use I); to contractors (routine use J); to former employees under certain circumstances (routine use K); and to recipients as are mandated by federal statute or treaties (routine use L). Updates and revisions are made to the sections on storage, retrieval, and safeguarding procedures; and to the retention and disposal schedule. Updates and edits are made to the notification procedure; record access procedures; and the contesting records procedures. In addition, two record source categories are added.

In accordance with 5 U.S.C. 552a(e)(4) and (11), the public is given a 30-day period in which to comment; and the Office of Management and Budget (OMB), which has oversight responsibility under the Privacy Act, requires a 40-day period in which to conclude its review of the system. Therefore, please submit any comments by May 27, 2004. The public, OMB, and the Congress are invited to submit any comments to Mary E. Cahill, Management and Planning Staff, Justice Management Division, Department of Justice, Washington, DC 20530 (Room 1400, National Place Building).

In accordance with 5 U.S.C. 552a(r), the Department has provided a report to Congress and OMB.

Dated: April 6, 2004.
Paul R. Corts,
Assistant Attorney General for Administration.

DEPARTMENT OF JUSTICE

SYSTEM NAME:

General Files System of the Office of the Associate Attorney General, JUSTICE/ASG-001.

SECURITY CLASSIFICATION:

Not classified.

SYSTEM LOCATION:

Office of the Associate Attorney General, United States Department of Justice, 950 Pennsylvania Avenue, NW., Washington, DC 20530-0001.

CATEGORIES OF INDIVIDUALS COVERED BY THE SYSTEM:

The system encompasses individuals who relate to official federal investigations, policy decisions, and administrative matters of such significance that the Associate Attorney General maintains information indexed to the name of that individual including, but not limited to, subjects of litigation, targets of investigations, Members and staff members of Congress, upper-echelon government officials, and individuals of national prominence or notoriety.

CATEGORIES OF RECORDS IN THE SYSTEM:

Records may include case files, litigation materials, exhibits, internal memoranda or reports, or other records on a given subject or individual. Records vary in number and kind according to the breadth of the Associate Attorney General's responsibilities (28 CFR 0.19) and are limited to those which are of such significance that the Associate Attorney General has investigative, policy, law enforcement, or administrative interest.

AUTHORITY FOR MAINTENANCE OF THE SYSTEM:

These records are maintained pursuant to 5 U.S.C. 301.

PURPOSE(S):

This system is maintained for the purpose of assisting the Associate Attorney General in carrying out the responsibilities of the Office such as, but not limited to, advising the Attorney General and Deputy Attorney General in formulating Departmental policies and programs, providing overall supervision to organizational units as assigned, and other duties as assigned by the Attorney General (28 CFR 0.19).

ROUTINE USES OF RECORDS MAINTAINED IN THE SYSTEM, INCLUDING CATEGORIES OF USERS AND THE PURPOSE OF SUCH USES:

Information may be disclosed from this system as follows:

A. To the news media and the public pursuant to 28 CFR 50.2 unless it is determined that release of the specific information in the context of a particular case would constitute an unwarranted invasion of personal privacy.

B. To a Member of Congress or staff acting on the Member's behalf when the Member or staff requests the information on behalf of, and at the request of, the individual who is the subject of the record.

C. Law enforcement records may be disclosed to any civil or criminal law enforcement authorities, whether federal, state, local, foreign, or tribal, which require information relevant to a civil or criminal investigation.

D. Where a record, either on its face or in conjunction with other information, indicates a violation or potential violation of law—criminal, civil, or regulatory in nature—the relevant records may be referred to the appropriate federal, state, local, foreign, or tribal, law enforcement authority or other appropriate agency charged with the responsibility of investigating or prosecuting such a violation or enforcing or implementing such law.

E. To the National Archives and Records Administration (NARA) in records management inspections conducted under the authority of 44 U.S.C. 2904 and 2906.

F. To appropriate officials and employees of a federal agency or entity which requires information relevant to a decision concerning the hiring, appointment, or retention of an employee; the issuance, renewal, suspension, or revocation of a security clearance; the execution of a security or suitability investigation; the letting of a contract, or the issuance of a grant or benefit.

G. To federal, state, local, tribal, foreign, or international licensing agencies or associations which require information concerning the suitability or eligibility of an individual for a license or permit.

H. In an appropriate proceeding before a court, or administrative or adjudicative body, when the Department of Justice determines that the records are arguably relevant to the proceeding; or in an appropriate proceeding before an administrative or adjudicative body when the adjudicator holds the records to be relevant to the proceeding.

I. To complainants and/or victims to the extent necessary to provide such persons with information and explanations concerning the progress and/or results of the investigation or case arising from the matters of which they complained and/or of which they were a victim.

J. To contractors, grantees, experts, consultants, students, and others performing or working on a contract, service, grant, cooperative agreement, or other assignment for the Federal Government, when necessary to accomplish an agency function related to this system of records.

K. The Department of Justice may disclose relevant and necessary information to a former employee of the Department for the purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

L. To such recipients and under such circumstances and procedures as are mandated by federal statute or treaty.

DISCLOSURE TO CONSUMER REPORTING AGENCIES:

Not applicable.

POLICIES AND PRACTICES FOR STORING, RETRIEVING, ACCESSING, RETAINING, AND DISPOSING OF RECORDS IN THE SYSTEM:

STORAGE:

Records in this system are stored in electronic form and on paper. Records that contain national security information and are classified are stored in accordance with applicable executive orders, statutes, and agency implementing regulations.

RETRIEVABILITY:

Information can be retrieved by correspondence control number; name of individual; subject matter of topic; or in some cases, by other identifying search term employed.

SAFEGUARDS:

Information in this system is safeguarded in accordance with applicable laws, rules, and policies, including the Department's automated systems security and access policies. Classified information is appropriately stored in safes and in accordance with other applicable requirements. In general, records and technical equipment are maintained in buildings with restricted access. The required use of password protection identification features and other system protection methods also restrict access. Access is limited to those officers and employees of the agency who have an official need for access in order to perform their duties.

RETENTION AND DISPOSAL:

Records are retained and disposed of in accordance with guidelines approved by the National Archives and Records Administration.

SYSTEM MANAGER(S) AND ADDRESS:

Deputy Associate Attorney General, Office of the Associate Attorney General, United States Department of Justice, 950 Pennsylvania Avenue, NW., Washington, DC 20530-0001.

NOTIFICATION PROCEDURE:

Address inquiries to the System Manager named above.

RECORD ACCESS PROCEDURES:

Requests for access should be directed in writing or in person to the System Manager named above. When requests are in writing, the envelope and letter should be clearly marked “Privacy Act Access Request.” The request should include a general description of the records sought and must include the requester's full name, current address, and date and place of birth. The request must be signed, dated and either notarized or submitted under penalty of perjury. Some information may be exempt from access provisions as described in the section entitled “EXEMPTIONS CLAIMED FOR THE SYSTEM.” An individual who is the subject of a record in this system may access those records that are not exempt from disclosure. A determination whether a record may be accessed will be made at the time a request is received. Although no specific form is required, you may obtain forms for this purpose from the FOIA/PA Mail Referral Unit, Justice Management Division, United States Department of Justice, 950 Pennsylvania Avenue, NW., Washington, DC 20530-0001, or on the Department of Justice Web site at http://www.usdoj.gov/04foia/att_d.htm.

CONTESTING RECORD PROCEDURES:

Individuals desiring to contest or amend information maintained in the system should direct their request to the System Manager listed above, stating clearly and concisely what information is being contested, the reasons for contesting it, and the proposed amendment to the information sought. Some information is not subject to amendment, such as tax return information. Some information may be exempt from contesting record procedures as described in the section entitled “Exemptions Claimed for the System.” An individual who is the subject of a record in this system may amend those records that are not exempt. A determination whether a record may be amended will be made at the time a request is received.

RECORD SOURCE CATEGORIES:

Sources of information contained in this system include individuals, state, local, tribal, and foreign government agencies, as appropriate, the executive and legislative branches of the Federal Government, the Judiciary, and interested third parties.

EXEMPTIONS CLAIMED FOR THE SYSTEM:

The Attorney General has exempted this system from subsections (c)(3) and (4); (d); (e)(1), (2), (3), and (5); and (g) of the Privacy Act pursuant to 5 U.S.C. 552a(j)(2), (k)(1), (k)(2), and (k)(5). Rules have been promulgated in accordance with the requirements of 5 U.S.C. 553(b), (c) and (e) and have been published in the Federal Register and at 28 CFR 16.72. These exemptions apply only to the extent that information in the system is subject to exemption pursuant to 5 U.S.C. 552a(j)(2), (k)(1), (k)(2) and (k)(5). A determination as to exemption shall be made at the time a request for access or amendment is received.

[FR Doc. 04-9512 Filed 4-26-04; 8:45 am]

BILLING CODE 4410-22-P